DEPARTMENT OF LABOR

Employment and Training Administration

Investigations Regarding Certifications of Eligibility to Apply for Worker Adjustment Assistance:

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 18, 2000.

Interested persons are invited to submit written comments regarding the subject matter of the investigations to the Director, Division of Trade Adjustment Assistance, at the address shown below, not later than December 18, 2000.

The petitions filed in this case are available for inspection at the Office of the Director, Division of Trade Adjustment Assistance, Employment and Training Administration, U.S. Department of Labor, Room C-5311, 200 Constitution Avenue, NW., Washington, DC 20210.

Signed at Washington, D.C. this 20th day of November, 2000.
Edward A. Tomchick,
Director, Division of Trade Adjustment Assistance.

Appendix—Petitions Instituted On 11/20/2000
TA-W | Subject firm (petitioners) | Location | Date of petition | Product(s)
38,321 | International Paper (Co.) | Lock Haven, PA | 11/01/2000 | Reprographic Paper.
38,322 | Golden Northwest Aluminum (USWA) | The Dallas, OR | 11/03/2000 | Aluminum.
38,323 | Winpak Films (Wkrs) | Senoia, GA | 10/27/2000 | Machine Operators, Packers, Inspectors.
38,324 | Remacor (Wkrs) | West Pittsburg, PA | 10/29/2000 | Ground Magnesium.
38,325 | Posies, Inc. (Co.) | Rockport, ME | 11/03/2000 | Children's Special Occasion Dresses.
38,326 | Encore Textiles (Co.) | Monroe, NC | 10/31/2000 | Tee Shirts.
38,327 | Irving Forest Products (PACE) | Ashland, ME | 11/07/2000 | Kiln Dried Lumber.
38,328 | Staples, Inc. (Co.) | Canton, MI | 10/30/2000 | Sell Office Products.
38,329 | Fashion Technologies (UNITE) | Hackensack, NJ | 10/27/2000 | Engraving and Screens Making.
38,330 | Central Industries (Co.) | Greenwood, AR | 10/25/2000 | Electrical Wiring Harnesses.
38,331 | Babyfair, Inc. (Wkrs) | Brooklyn, NY | 11/06/2000 | Infants and Children's Clothing.
38,332 | Pronav Ship Management (Wkrs) | Greenwich, CT | 11/03/2000 | Natural Gas Transportation.
38,333 | Smith and Wesson (Co.) | Springfield, MA | 11/02/2000 | Firearms.
38,334 | General Magnetic (Co.) | Dallas, TX | 11/06/2000 | Ceramic Magnetics.
38,335 | Victor Electric (Wire (IBEW) | Coventry, RI | 11/01/2000 | Electric Cordsets.
38,336 | Dunham Bush (Wkrs) | Harrisonburg, VA | 11/06/2000 | Heating.
38,337 | Norton Company (PACE) | Watervliet, NY | 11/06/2000 | Sandpaper.
38,338 | Cooper Energy Services (Wkrs) | Mt. Vernon, OH | 11/06/2000 | Compressor Fralies and Cylinders.
38,339 | Maytag (Co.) | Jefferson City, MO | 11/08/2000 | Wiring Harnesses for Appliances.
38,340 | New Monarch Machine Tools (UAW) | Cortland, NY | 11/06/2000 | Vertical Machining Centers.
38,341 | Caffall Bros. Forest Prod (Co.) | Wilsonville, OR | 11/07/2000 | Western Red Cedar Fencing Products.
38,342 | Gulf States Steel (USWA) | Gadsden, AL | 11/07/2000 | Steel Plates, Coils.
38,343 | United Steelworkers (USWA) | Gadsden, AL | 11/07/2000 | Steelworkers Union Office.
38334 | Rockwell Automation (UE) | Milwaukee, WI | 11/01/2000 | Industrial Controls, Switches.
38345 | General Time Corp. (Co.) | Athens, GA | 11/13/2000 | Keywound and Electric Analog Clocks.

[FR Doc. 00-31035 Filed 12-05-00; 8:45 am]

BILLING CODE 4510-30-M